ENVIRONMENTAL PROTECTION AGENCY

40 CFR Part 141

[FRL-6920-6]

RIN 2040-AD58

Unregulated Contaminant Monitoring Regulation for Public Water Systems; Analytical Methods of List 2 Contaminants; Clarifications to the Unregulated Contaminant Monitoring Regulation

Correction

In rule document 01-59 beginning on page 2273 in the issue of Thursday, January 11, 2001, make the following corrections:

1. On page 2302, in Table 1.—Unregulated Contaminant Monitoring Reporting Requirements, item 15 should read as follows:

Table 1.—Unregulated Contaminant Monitoring Reporting Requirements
Data Element | Definition
15. Analytical Accuracy | Accuracy describes how close a result is to the true value measured through the use of spiked field samples. For purposes of unregulated contaminant monitoring, accuracy is defined as the percent recovery of the contaminant in the spiked matrix sample analyzed in the same analytical batch as the sample result being reported and calculated using:
| % recovery = [(amt. found in spiked sample—amt. found in sample)/amt. spiked] × 100%.

2. On page 2303, in Table 1.—Unregulated Contaminant Monitoring Regulation (1999) List, the entry for “Perchlorate” should read as follows:

Table 1.—Unregulated Contaminant Monitoring Regulation (1999) List
List 1—assessment monitoring chemical contaminants: 1-contaminant | List 1—assessment monitoring chemical contaminants: 2-CAS registry number | List 1—assessment monitoring chemical contaminants: 3-analytical methods | List 1—assessment monitoring chemical contaminants: 4-minimum reporting level | List 1—assessment monitoring chemical contaminants: 5-sampling location | List 1—assessment monitoring chemical contaminants: 6-period during which monitoring to be completed
Perchlorate | 14797-73-0 | EPA Method 314.0 ˡ | 4 μg/L ᵐ | EPTDS ᶠ | 2001-2003

3. On page 2304, in the table titled “List 2—screening survey chemical contaminants”, the entry for “Terbufos” should read as follows:

List 2—screening survey chemical contaminants: 1-contaminant | List 2—screening survey chemical contaminants: 2-CAS registry number | List 2—screening survey chemical contaminants: 3-Analytical methods | List 2—screening survey chemical contaminants: 4-Minimum reporting level | List 2—screening survey chemical contaminants: 5-sampling location | List 2—screening survey chemical contaminants: 6-Period during which monitoring to be completed
Terbufos | 13071-79-9 | EPA Method 526 ᵃ | 0.5 μg/L ᶠ | EPTDS ᵉ | 2001—Selected Systems serving ≤10,000 persons; 2002-Selected systems serving > 10,000 persons.

[FR Doc. C1-59 Filed 5-15-01; 8:45 am]

BILLING CODE 1505-01-D

DEPARTMENT OF TRANSPORTATION

Coast Guard

33 CFR Part 160

USCG-2001-8659

RIN 2115-AG06

Notification of Arrival: Addition of Charterer to Required Information

Correction

In proposed rule document 01-10838 beginning on page 21710 in the issue of Tuesday, May 1, 2001, make the following corrections:

§160.211 [Corrected]

1. On page 21715, in the second column, in amendatory instruction 5.b., in the second line “all” should read “add”.

§160.213 [Corrected]

2. On page 21715, in the second column, in amendatory instruction 6.b., in the third line “read add” should read “reads”.

[FR Doc. C1-10838 Filed 5-15-01; 8:45 am]

BILLING CODE 1505-01-D